SMALL BUSINESS ADMINISTRATION

Announcement of National Small Business Week Video Contest Under the America Competes Reauthorization Act of 2011

AGENCY: Small Business Administration (SBA).

ACTION: Notice.

SUMMARY: In celebration of National Small Business Week 2012, the U.S. Small Business Administration (SBA) announces a video contest (the “Contest”) for small businesses to show how they have been assisted by an SBA program or service. This Federal Register notice is required under the Section 105 of the America COMPETES Reauthorization Act of 2011.

DATES: The submission period for entries begins 12 p.m. EDT, April 16, 2012, and ends 5 p.m. EDT, May 11, 2012. Winners will be announced during National Small Business Week 2012, unless the term of the Contest is extended by SBA.

FOR FURTHER INFORMATION CONTACT: Stephen Morris, Office of Communications & Public Liaison, U.S. Small Business Administration, 409 Third Street SW., Washington, DC 20416; Telephone (202) 205-7422; stephen.morris@sba.gov.

SUPPLEMENTARY INFORMATION:

Competition Details

1. Subject of the Competition: In celebration of National Small Business Week 2012, the U.S. Small Business Administration is looking for creative videos from small businesses that show how they have been assisted by an SBA program or service, including, but not limited to, counseling, training, guaranteed loans, government contracts, and disaster recovery. The video contest will provide recognition to small businesses across the country that are utilizing SBA's programs and services to create jobs, serve as pillars in their communities, and to create the next big products that will help keep America competitive.

2. Prize: Winning videos will be shown during a Google+ Hangout hosted by SBA and the White House with SBA Administrator Karen Mills on May 23, 2012. The winners will be invited to participate in the Hangout with Administrator Mills. Winning videos will also be featured during National Small Business Week 2012 and may be used by the agency at other high-profile Agency functions.

3. Competition Rules:

1. Eligibility to participate: The contest is open to small businesses in the United States and its territories, including but not limited to, Puerto Rico, the U. S. Virgin Islands and Guam. Small businesses must meet SBA's size standards as stated in 13 CFR 121, and must have used at least one SBA program or service, including but not limited to: SBA Loan Programs (7a, 504, Microloan, etc.); SBA Contracting Programs or Certifications (8(a), HUBZone); SBA Disaster Assistance; Participating in counseling or training with an SBA Resource Partner service such as SCORE, Small Business Development Centers (SBDCs), Women's Business Centers (WBCs), Veterans Business Outreach Centers (VBOCs), or U.S. Export Assistance Centers (USEACs); or SBIC Portfolio Companies. Any videos developed with federal funding- either grant, contract, or loan proceeds—are not eligible to win. Federal employees and their immediate families, current SBA contractors and SBA grant recipients may enter the contest but are not eligible to win. “Immediate family members” include spouses, siblings, parents, children, grandparents, and grandchildren, whether as “in-laws”, or by current or past marriage, remarriage, adoption, co-habitation or other familial extension, and any other persons residing at the same household location, whether or not related. The small business owner(s) must be a U.S. citizen or permanent resident and at least 18 years old to enter and win.

2. Process for participants to register: All Contest participants must enter the Competition through the Competition Web page on the Challenge.gov portal http://smallbizvid.challenge.gov by 5 p.m. EDT on May 11, 2012. Submissions will be accepted starting at 12 p.m. EDT on April 16, 2012. Contest participants should review all contest rules and eligibility requirements. Submissions must consist of an original video, 2 minutes or less in high-resolution format that answers the following questions within the video: “What is the name of your small business and where is it located (City/State)?”; “Which SBA program or service did you utilize?”; “What were you able to accomplish from the SBA program or service you utilized? For example, were you able to hire new employees, start your business, expand your operations, purchase equipment etc.?”; “What is the most rewarding part about starting or growing your small business?”; “How has the assistance benefited the local community?”

3. Basis on which the winners will be selected: All eligible videos will be judged by a panel of senior SBA officials on the following criteria: Inspirational nature of the message for potential small business owners; Creativity and uniqueness of video concept; use of SBA programs and/or services; and audio and visual quality of the video. Winners will be selected based on an overall score. All judging is in SBA's sole discretion and all decisions are final. SBA senior officials intend to select three winning videos.

Authority: Public Law 111-358 (2011).

Dated: April 18, 2012.
Fred Baldassaro,
Assistant Administrator, Office of Communications and Public Liaison.

[FR Doc. 2012-9753 Filed 4-23-12; 8:45 am]

BILLING CODE 8025-01-P